DEPARTMENT OF AGRICULTURE

Agricultural Marketing Service

7 CFR Part 922

[Doc. No. AMS-FV-10-0062; FV06-922-2 C]

Apricots Grown in Designated Counties in Washington; Temporary Relaxation of the Minimum Grade Requirement; Correction

AGENCY: Agricultural Marketing Service, USDA.

ACTION: Correcting amendment.

SUMMARY: The Agricultural Marketing Service (AMS) is making a correction to the Code of Federal Regulations (CFR) by revising the administrative rules and regulations contained in part 922, Apricots Grown in Designated Counties in Washington. In an interim final rule published in the Federal Register on August 2, 2006 (71 FR 43641), and adopted as a final rule on November 13, 2006 (71 FR 66093), changes were made to section 922.321(a)(1) to relax the minimum grade requirements for Washington apricots for the 2006 season. The changes were in effect from August 3, 2006, through March 31, 2007. After the effective dates for the changes, the text of an entire paragraph was inadvertently omitted, by AMS, from subsequent issues of the Code of Federal Regulations (CFR) and the section was reserved. AMS did not intend for the entire paragraph to be removed. This document corrects that error by adding or reinserting the language that was omitted into Title 7 of the CFR, part 922.

DATES: Effective Date: November 30, 2010.

FOR FURTHER INFORMATION CONTACT: Robert J. Curry or Gary D. Olson, Northwest Marketing Field Office, Marketing Order Administration Branch, Fruit and Vegetable Programs, AMS, USDA; Telephone: (503) 326-2724, Fax: (503) 326-7440, or E-mail: Robert.Curry@ams.usda.gov or GaryD.Olson@ams.usda.gov.

Small businesses may request information on complying with this regulation by contacting Antoinette Carter, Marketing Order Administration Branch, Fruit and Vegetable Programs, AMS, USDA, 1400 Independence Avenue SW., STOP 0237, Washington, DC 20250-0237; Telephone: (202) 720-2491, Fax: (202) 720-8938, or E-mail: Antoinette.Carter@ams.usda.gov.

SUPPLEMENTARY INFORMATION: This document provides a correcting amendment to Marketing Order 922, found at 7 CFR part 922, so that handlers of fresh apricots from Washington shall continue to adhere to the minimum grade requirements (Washington No. 1) of the Order.

List of Subjects in 7 CFR Part 922

Apricots, Marketing Agreements, Reporting and recordkeeping requirements.

Accordingly, 7 CFR part 922 is corrected by making the following correcting amendment:

1. The authority citation for 7 CFR part 922 continues to read as follows:

Authority: 7 U.S.C. 601-674.

PART 922—APRICOTS GROWN IN DESIGNATED COUNTIES IN WASHINGTON

2. In § 922.321, add paragraph (a)(1) to read as follows:

§ 922.321 Apricot Regulation 21.

(a) * * *

(1) Minimum grade and maturity requirements. Such apricots that grade not less than Washington No. 1 and are at least reasonably uniform in color: Provided, That such apricots of the Moorpark variety in open containers shall be generally well matured.

* * * * *

Dated: November 10, 2010.
David R. Shipman,
Acting Administrator, Agricultural Marketing Service.

[FR Doc. C1-2010-29105 Filed 11-26-10; 8:45 am]

BILLING CODE 3410-02-P